NATIONAL CRIME PREVENTION AND PRIVACY COMPACT COUNCIL

Notice of Two Accepted Methods for Determining Positive Identification for Exchanging Criminal History Record Information for Noncriminal Justice Purposes

AGENCY: National Crime Prevention and Privacy Compact Council.

ACTION: Notice.

SUMMARY: Pursuant to the publication requirement in title 42, United States Code, 14616, Article VI(e), the Compact Council, established by the National Crime Prevention and Privacy Compact (Compact) Act of 1998, is providing public notice of two accepted methods for determining positive identification for exchanging criminal history record information (CHRI) for noncriminal justice purposes.

FOR FURTHER INFORMATION CONTACT: Todd C. Commodore, FBI CJIS Division, 1000 Custer Hollow Road, Module C3, Clarksburg, WV 26306; Telephone (304) 625-2803; e-mail tcommodo@leo.gov; fax number (304) 625-5388.

SUPPLEMENTARY INFORMATION: The Compact establishes uniform standards and processes for the interstate and Federal-State exchange of criminal history records for noncriminal justice purposes. The Compact was approved by the Congress on October 9, 1998, (Pub. L. 105-251) and became effective on April 28, 1999, when ratified by the second state. Article VI of the Compact provides for a Compact Council that has the authority to promulgate rules and procedures governing the use of the Interstate Identification Index (III) System for noncriminal justice purposes. The III is the system of federal and state criminal history records maintained by the Federal Bureau of Investigation (FBI).

Due to innovative noncriminal justice initiatives in state and federal communities, the Compact Council has received numerous inquiries regarding its interpretation of the definition of positive identification which is defined in the Compact, Article I (20), as follows:

The term ‘positive identification’ means a determination, based upon a comparison of fingerprints or other equally reliable biometric identification techniques, that the subject of a record search is the same person as the subject of a criminal history record or records indexed in the III System. Identifications based solely upon a comparison of subjects' names or other nonunique identification characteristics or numbers, or combinations thereof, shall not constitute positive identification.

At its May 2004 meeting, the Compact Council accepted two methods for determining positive identification for the exchange of CHRI for noncriminal justice purposes. By way of background, ten-rolled fingerprints has been the method to determine positive identification for over 80 years in the criminal justice community. The use of ten-rolled fingerprints has also served as the standard business practice in the noncriminal justice community. As a result of this long standing practice and reliability of using ten-rolled fingerprints to determine positive identification, the Compact Council formally accepted ten-rolled fingerprints as one method of positive identification for exchanging CHRI for noncriminal justice purposes.

The FBI's Criminal Justice Information Services (CJIS) Division conducted a study, known as the National Fingerprint-based Applicant Check Study (N-FACS), to examine the reliability of using ten-flat fingerprints for determining positive identification. The results of the N-FACS study were presented to the Compact Council at its May 2004 meeting. After close examination of various N-FACS pilot program findings, the Compact Council formally accepted ten-flat fingerprints as another method for determining positive identification for exchanging CHRI for noncriminal justice purposes.

Hereafter, interested parties should contact the FBI's Compact Council Office for future updates to the Compact Council's list of accepted methods of positive identification for exchanging CHRI for noncriminal justice purposes. Further, information regarding a state or federal agency's acceptable standards and technical capabilities to process fingerprints should be obtained from the State Compact Officer in a Compact Party State's criminal history record repository, the Chief Administrator of the State criminal history record repository in a Nonparty State, or the FBI Compact Officer for a federal or regulatory agency.

In addition, the definition of positive identification in Article I (20) of the Compact refers to a “comparison of fingerprints” without specifying the number of fingerprint images. Accordingly, the Compact Council has determined that the definition is flexible enough to accommodate any future position the Compact Council may favor concerning the use of less than ten-rolled or ten-flat fingerprints when acceptable reliability is sufficiently documented. Future alternatives for determining positive identification for exchanging CHRI for noncriminal justice purposes must be coordinated with the CJIS Division. The scientific reliability of any such future alternative should not significantly deviate from the reliability of ten-rolled fingerprints or ten-flat fingerprints; nor shall it degrade the standards for search accuracy and/or computing capacity of the Integrated Automated Fingerprint Identification System as determined by the CJIS Division. Agencies should coordinate the submission of ten-flat fingerprints with the CJIS Division.

Dated: May 12, 2005.
Donna M. Uzzell,
Compact Council Chairman.

[FR Doc. 05-12328 Filed 6-21-05; 8:45 am]

BILLING CODE 4410-02-P